DEPARTMENT OF COMMERCE

International Trade Administration

[A-427-818]

Low Enriched Uranium From France: Preliminary Results of Antidumping Duty Administrative Review

AGENCY: Import Administration, International Trade Administration, U.S. Department of Commerce.

SUMMARY: The Department of Commerce (the Department) is conducting an administrative review of the antidumping duty order on Low Enriched Uranium (LEU) from France in response to requests by USEC Inc. and the United States Enrichment Corporation (collectively, petitioners) and by Eurodif, S.A.(Eurodif), Compagnie Générale Des Matières Nucléaires (COGEMA) and COGEMA, Inc. (collectively, Eurodif/COGEMA or the respondent). This review covers sales of subject merchandise to the United States during the period of February 1, 2003, through January 31, 2004.

We have preliminarily determined that U.S. sales have been made below normal value (NV). If these preliminary results are adopted in our final results, we will instruct U.S. Customs and Border Protection (CBP) to assess antidumping duties based on the difference between the constructed export price (CEP) and the NV. Interested parties are invited to comment on these preliminary results. See the Preliminary Results of Review section of this notice.

EFFECTIVE DATE: March 7, 2005.

FOR FURTHER INFORMATION CONTACT: Myrna Lobo or Elfi Blum-Page, AD/CVD Operations, Office 6, Import Administration, International Trade Administration, U.S. Department of Commerce, 14th Street and Constitution Avenue, NW., Washington, DC 20230; telephone: (202) 482-2371 or (202) 482-0197, respectively.

Background

On February 13, 2002, the Department published the antidumping duty order on LEU from France in the Federal Register (67 FR 6680). On February 3, 2004, the Department published a notice of opportunity to request an administrative review of this order (69 FR 5125). On February 4, 2004 and February 26, 2004, respectively, the Department received timely requests for review from Eurodif/COGEMA and from petitioners. On March 26, 2004, we published a notice initiating an administrative review of the antidumping order on LEU from France covering one respondent, Eurodif/COGEMA. See Initiation of Antidumping and Countervailing Duty Administrative Reviews and Requests for Revocation in Part, 69 FR 15788 (March 26, 2004).

The Department issued its original questionnaire, sections A through D, on April 14, 2004, and received timely responses. On October 28, 2004, the Department extended the deadline for the preliminary results of this antidumping duty administrative review until February 28, 2005. See Notice of Extension of Time Limit for Preliminary Results of Antidumping Duty Administrative Review: Low Enriched Uranium from France, 69 FR 62867 (October 28, 2004).

On October 29, 2004, pursuant to an allegation filed by petitioners, the Department initiated an investigation to determine whether Eurodif/COGEMA's purchases of electricity from Électricité de France (EdF), an affiliated supplier, during the period of review (POR), were made at prices below the cost of production (COP). Consequently, on November 4, 2004, and on December 23, 2004, the Department issued questionnaires on the COP of electricity and received timely, although incomplete, responses.

On December 14, 2004, the petitioners filed comments stating that the respondent's costs for research and development (R&D) were under-reported. The Department is in the process of reviewing the information and argument submitted by the petitioners.

In response to comments filed by petitioners, on February 10, 2005, Eurodif/COGEMA filed additional information. On the same day, the Department reiterated its request for a reconciliation of the costs of electricity from EdF's Summary Annual and Unbundled 2003 Financial Statements to the information in the record which was used to calculate the per-unit cost of electricity. See Memorandum to File from Myrna Lobo, “Second Antidumping Duty Administrative Review of Low Enriched Uranium from France; Team Meeting with Outside Party,” dated February 16, 2005, on file in the Central Record Unit, Room B-099 of the Main Commerce Building (CRU). Eurodif/COGEMA filed two more submissions on the costs of electricity on February 15, 2005, and February 18, 2004, respectively. The Department notified all parties that factual information would not be accepted after February 18, 2005, unless requested by the Department. Parties were also advised that any submission filed as of February 22, 2005, would not be considered for the preliminary results of review. See Memorandum to File from Maria MacKay, Program Manager, “New Factual Information Deadline,” dated February 23, 2005, on file in the CRU.

Period of Review

This review covers the period February 1, 2003, through January 31, 2004.

Scope of the Order

The product covered by this order is all low enriched uranium. LEU is enriched uranium hexafluoride (UF6) with a U²³⁵ product assay of less than 20 percent that has not been converted into another chemical form, such as UO2, or fabricated into nuclear fuel assemblies, regardless of the means by which the LEU is produced (including LEU produced through the down-blending of highly enriched uranium).

Certain merchandise is outside the scope of this order. Specifically, this order does not cover enriched uranium hexafluoride with a U²³⁵ assay of 20 percent or greater, also known as highly enriched uranium. In addition, fabricated LEU is not covered by the scope of this order. For purposes of this order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of this order.

Also excluded from this order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end user.

The merchandise subject to this order is classified in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Analysis

Home Market Viability

In accordance with section 773(a)(1)(B) and (C) of the Tariff Act of 1930, as amended (the Act), to determine whether there was a sufficient volume of sales in the home market and/or in third country markets to serve as a viable basis for calculating NV, we compared Eurodif/COGEMA's volume of home market sales and third country sales of the foreign like product to the volume of U.S. sales of the subject merchandise. Eurodif/COGEMA did not have any sales in the home market during the POR. Pursuant to section 773(a)(1)(B) and (C) of the Act and section 351.404 (b) of the Department's regulations, because Eurodif/COGEMA's aggregate volume of sales of the foreign like product both in Japan and Sweden was greater than five percent of the aggregate volume of U.S. sales of the subject merchandise, we determined that Japan and Sweden are viable markets. However, due to the difficulties involved in calculating a difference-in-merchandise adjustment for non-identical products, the Department determined to use constructed value (CV) as the basis of NV in this review.

See Memorandum to Dana Mermelstein from Elfi Blum-Page and Myrna Lobo, “Antidumping Duty Administrative Review of Low Enriched Uranium (LEU) from France, Market Viability,” (Viability Memorandum) dated December 20, 2004, on file in the CRU.

Fair Value Comparisons

To determine whether sales of LEU from France were made in the United States at less-than-fair value (LTFV), we compared the CEP to CV, as described in the Constructed Export Price and Calculation of Normal Value Based On Constructed Value sections of this notice. In accordance with section 777A(d)(2) of the Act, we calculated CEPs and compared them to CV.

We note that during the POR, the respondent sold LEU in the United States pursuant to contracts in which the respondent undertook to manufacture and deliver LEU for a cash payment covering only the value of the enrichment component; for the natural uranium feedstock component, the respondent received an amount of natural uranium equivalent to the amount used to produce the LEU shipped (so-called separative work unit (SWU) ¹ contracts). However, the product manufactured and delivered by the respondent was LEU. For purposes of our antidumping analysis, we have translated prices and costs involved in SWU contracts to an LEU basis, increasing those values to account for the cost of the uranium feedstock involved. These adjustments are described in greater detail below.

¹ A SWU is a unit of measurement of the effort required to separate the U235 and U238 atoms in uranium feed in order to create a final product richer in U²³⁵ atoms.

Constructed Export Price

In accordance with section 772(b) of the Act, CEP is the price at which the subject merchandise is first sold (or agreed to be sold) in the United States before or after the date of importation by or for the account of the producer or exporter of such merchandise, or by a seller affiliated with the producer or exporter, to a purchaser not affiliated with the producer or exporter. During the POR, Eurodif/COGEMA made sales to the United States through its U.S. affiliate, COGEMA Inc., which then resold the merchandise to unaffiliated customers. Therefore, Eurodif/COGEMA classified all of its export sales of LEU as CEP sales.

As stated in section 351.401(i) of the Department's regulations, the Department will use the respondent's invoice date as the date of sale unless another date better reflects the date upon which the exporter or producer establishes the material terms of sale. In this review, we find that the material terms of sale are set in the contract between COGEMA Inc. and the U.S. customer. Therefore, as in the prior review, we have used the contract date as the date of sale. See Notice of Final Results of Antidumping Duty Administrative Review: Low Enriched Uranium From France, 69 FR 46501 (August 3, 2004).

The Department calculated CEP for Eurodif/COGEMA based on packed prices to the first unaffiliated customer in the United States. For all sales, which involved payments on a SWU basis, we translated the prices to an LEU basis, as indicated above, by adding a value for the uranium feedstock used in the production of the LEU. This value was derived from the respondent's reported entered value of feed, which was based on publicly available information used for customs entry purposes. We made deductions from the starting price, net of discounts, for movement expenses (foreign and U.S. movement, shipment of sample assays, movement of customer feed from North America to France, marine insurance, merchandise processing and U.S. harbor maintenance fees, and brokerage) in accordance with section 772(c)(2) of the Act and section 351.401(e) of the Department's regulations. In addition, in accordance with section 772(d)(1) of the Act, we also deducted credit expenses and indirect selling expenses, including inventory carrying costs, incurred in the United States and France and associated with economic activities in the United States.

Furthermore, in accordance with sections 772(d)(3) and 772(f) of the Act, we made a deduction for CEP profit. The CEP profit rate is normally calculated on the basis of total revenue and total expenses related to sales in the comparison market and the U.S. market. In this case, we based NV on CV; therefore, there was no home market profit from which to derive CEP profit. Consequently, we based CEP profit on the total expenses and total revenue related to Eurodif's U.S. and third-country sales of LEU. See Memorandum to the File from Myrna Lobo and Elfi Blum-Page, “Analysis of Eurodif/COGEMA for the Preliminary Results of the Second Administrative Review of Low Enriched Uranium (LEU) from France,” February 28, 2005 (Prelim Analysis Memo).

Calculation of Normal Value Based on Constructed Value

Section 773(a)(4) of the Act provides that where NV cannot be based on comparison market sales, NV may be based on CV. Because of the difficulties involved in calculating a difference-in-merchandise adjustment for non-identical products (see the Home Market Viability section above), in this review the Department determined to use CV as the basis of NV.

Section 773(e) of the Act provides that CV shall be based on the sum of the costs of materials and fabrication of the foreign like product, plus amounts for selling, general, and administrative expenses (SG&A), profit, and U.S. packing costs. In accordance with section 773(e)(2)(B)(iii) of the Act, we based general and administrative (G&A) expenses on amounts derived from Eurodif's financial statements. In our calculation of the interest expense, we based financial expenses on the financial statements of COGEMA's parent company, AREVA, which represents the highest level of consolidation for Eurodif. For selling expenses, we used information on indirect selling expenses in third countries, including Japan, provided in the questionnaire response. Where appropriate, we made circumstance of sale (COS) adjustments to CV, in accordance with section 773(a)(8) of the Act and section 351.410 of the Department's regulations.

We calculated profit in accordance with section 773(e)(2)(B)(iii) of the Act and the Statement of Administrative Action regarding the Uruguay Round Agreements Act, H.R. Doc. 103-316, 103d Cong., 2d Sess. (SAA) 841. A positive amount for profit must be included in the CV. There were no home market sales during the POR, and, based on our calculations, there is no positive amount of profit with respect to third country sales. Thus, we find that it is appropriate to use a profit rate based on AREVA's front end division.² AREVA's front end division's activities are similar to Eurodif/COGEMA's business operations, and, according to AREVA's annual report, a substantial percentage of AREVA's front end activities were associated with sales outside the United States. These similarities lead us to conclude that this is a reasonable method for calculating Eurodif's profit. Therefore, lacking other alternatives, we used a CV profit rate based on AREVA's front end division. See Prelim Analysis Memo. The profit cap under section 773(e)(2)(B)(iii) of the Act cannot be calculated in this case because we do not have information allowing us to calculate the amount normally realized by exporters or producers (other than respondent) in connection with the sale, for consumption in the foreign country, of the merchandise in the same general category.

² According to AREVA's 2003 Annual Report, the AREVA group operates in every area of the nuclear fuel cycle. In the Front End of the cycle, it supplies uranium ore, and converts and enriches the uranium in order to fabricate the fuel assemblies that go into the reactor core. Specifically, the Front End division is in charge of: (1) Uranium ore exploration, mining, and treatment (concentration); (2) uranium conversion into a chemical form suitable for enrichment; (3) uranium 235 enrichment; and (4) fuel fabrication and assembly. See Eurodif/COGEMA Supplemental Sections A-D response, dated October 18, 2004, Exhibit A-66 at page 27.

Electricity is considered a major input into the production of LEU. Eurodif obtained electricity from its affiliated supplier, EdF. On June 9, 2004, the petitioners alleged that Eurodif purchased electricity from EdF at prices less than the affiliated suppliers' COP during the POR. After reviewing the allegation, the Department determined that petitioners' major input allegation provided a reasonable basis on which to initiate an investigation of Eurodif's purchases of electricity from EdF. See Memorandum from Myrna Lobo and Elfi Blum-Page, Case Analysts, to Barbara E. Tillman, Director, Office 6, “Antidumping Duty Administrative Review of Low Enriched Uranium from France, Petitioners' Allegation of Purchases of a Major Input From Electricité de France (EdF), an Affiliated Party, at Prices Below the Affiliated Party's Cost of Production,” dated October 29, 2004.

Section 773(f)(3) of the Act states that “{i}f, in the case of a transaction between affiliated persons involving the production by one of such persons of a major input to the merchandise, the administering authority has reasonable grounds to believe or suspect that an amount represented as the value of such input is less than the cost of production of such input, then the administering authority may determine the value of the major input on the basis of the information available regarding such cost of production, if such cost is greater than the amount that would be determined for such input under paragraph (2).” ³ In applying the major input rule under § 351.407(b) of the Department's regulations, the Department will normally compare the transfer price between affiliates to the market price for the input to ensure that the transfer price is at least reflective of the market price. For major inputs, the Department then compares the transfer price and the market price to the COP to ensure that the transfer price charged recovers the producer's costs of production. As such, we evaluated the affiliated supplier's reported electricity COP.

³ Paragraph 2 of section 773(f) of the Act is the transactions disregarded rule.

On November 4, 2004, the Department solicited information from the respondent regarding the calculation of EdF's COP. On December 23, 2004, we asked for clarification on the significant differences between the reported single average cost figure and the expense amounts shown in EdF's annual report. As we are unable to ascertain the reconciling differences between the reported costs and the costs shown in the annual report, we have adjusted EdF's reported cost of producing electricity by calculating a single weighted-average cost of producing electricity for the POR based on the information from EdF's annual report. See Use of Partial Facts Available section below.

Because the calculated COP for electricity exceeded the transfer price Eurodif paid to EdF for the electricity purchased, we calculated CV based on the COP of EdF, in accordance with section 773(f)(3) of the Act. For a full discussion of the COP of electricity, due to the proprietary nature of this information (see Prelim Analysis Memo).

Use of Partial Facts Available

The Department has determined that the use of partial facts available is appropriate for purposes of determining the preliminary dumping margin for subject merchandise sold by Eurodif/COGEMA. Specifically, as indicated above, the Department has applied partial facts available to its CV calculation with respect to electricity, a major input into the production of LEU (see Prelim Analysis Memo).

Section 776(a)(2) of the Act provides that, if an interested party or any other person (A) withholds information that has been requested by the administering authority; (B) fails to provide such information by the deadlines for the submission of the information or in the form and manner requested, subject to subsections (c)(1) and (e) of section 782 of the Act; (C) significantly impedes a proceeding under this subtitle; or (D) provides such information but the information cannot be verified as provided in section 782(i) of the Act, the administering authority shall, subject to section 782(d) of the Act, use the facts otherwise available in reaching the applicable determination under this title.

As indicated above, on November 4, 2004, the Department issued a questionnaire, requesting that Eurodif/COGEMA provide the actual per-unit cost of its affiliated electricity supplier and provide worksheets demonstrating the derivation of this cost from the affiliated supplier's cost accounting system. The Department issued another questionnaire on December 23, 2004, requesting that Eurodif/COGEMA provide documentary support for the information already provided and to reconcile such information to EdF's financial statements. The Department's detailed questions concerning the reconciliation of the information provided are contained in the public versions of the two major input questionnaires, which are on file in the CRU.

As long recognized by the U.S. Court of International Trade (CIT), the burden to create a complete and accurate record is on the respondent, not on the Department. See Pistachio Group of the Association Food Industries v. United States, 671 F. Supp. 31, 39-40 (CIT 1987). In its narrative response to the Department's second questionnaire, dated January 19, 2005, the respondent indicated that this is an unusually pressing and challenging time for EdF's financial department and that EdF is in the process of closing its year-end books and preparing its annual financial statements. In addition, respondent claimed that EdF staff was responding to numerous projects at the discretion of its new management and was also preparing for a public offering of the company's capital. Eurodif/COGEMA repeatedly stated that EdF would provide any further information at verification.

Eurodif/COGEMA submitted additional information on February 10, 2005, and a partial cost reconciliation on February 15, 2005, which the Department determined to be insufficient. On February 18, 2005, Eurodif/COGEMA filed additional information pertaining to EdF's cost reconciliation, which the Department still considered to be insufficient. At that point, due to the imminent preliminary results of review, the Department notified all parties that no new information would be accepted unless requested by the Department, and that any submission filed as of February 22, 2005, would not be considered for these preliminary results. The Department also indicated that it would solicit more information from respondent regarding EdF's COP after the issuance of the preliminary results and that it would revisit the electricity cost calculation in computing the CV for the final results of this review.

Consequently, for these preliminary results, the Department has determined that Eurodif/COGEMA has not cooperated to the best of its ability in responding to the Department's request for information. In accordance with section 776(a)(2)(A) and (B) of the Act, we are applying partial facts otherwise available in calculating Eurodif/COGEMA's dumping margin. As facts available, the Department has used a COP for electricity calculated on the basis of EdF's 2003 financial statements. See Prelim Analysis Memo.

Level of Trade

In accordance with section 773(a)(1)(B)(i) of the Act, to the extent practicable, we determined NV based on sales in the comparison market at the same level of trade (LOT) as the U.S. sales. See section 351.412(c)(1)(ii) of the Department's regulations. The LOT of the sales on which NV is based is the level of the starting-price sale in the comparison market; when NV is based on CV, the LOT is the level of the sales from which we derive SG&A and profit. For CEP, the U.S. LOT is the level of the constructed sale from the exporter to the importer. See § 351.412 of the Department's regulations.

Generally, to determine whether the sales on which NV is based are at a different LOT than the CEP sales, we examine stages in the marketing process and selling functions along the chain of distribution between the producer and the unaffiliated customer. If the comparison market sales are at a different LOT, and the difference affects price comparability, as manifested in a pattern of consistent price differences between the sales on which NV is based and the comparison market sales at the LOT of the export transaction, we make an LOT adjustment under section 773(a)(7)(A) of the Act. For CEP sales, if the NV level is more remote from the factory than the CEP level and there is no basis for determining whether the difference in the levels between NV and CEP affects price comparability, we adjust NV under section 773(a)(7)(B) of the Act (the CEP offset provision). See Final Determination of Sales at Less Than Fair Value: Greenhouse Tomatoes From Canada, 67 FR 8781 (February 26, 2002); see also Notice of Final Determination of Sales at Less than Fair Value: Certain Cut-to-Length Carbon Steel Plate from South Africa, 62 FR 61731 (November 19, 1997). For CEP sales, we consider only the selling activities reflected in the price after the deduction of certain expenses and CEP profit under section 772(d) of the Act. See Micron Technology Inc. v. United States, 243 F.3d 1301, 1314-1315 (Fed. Cir. 2001). We expect that, if the claimed LOTs are the same, the functions and activities of the seller should be similar. Conversely, if a party claims that the LOTs are different for different groups of sales, the functions and activities of the seller should be dissimilar. See Porcelain-on-Steel Cookware from Mexico: Final Results of Administrative Review, 65 FR 30068 (May 10, 2000).

In the current review, Eurodif/COGEMA provided information about the marketing stages involved in the reported U.S. sales, as well as in the home market and in third countries, including a description of the selling activities performed by the respondent for each channel of distribution. Given that all U.S. sales were CEP sales, we considered only the selling activities reflected in the price after the deduction of expenses and profit under section 772(d) of the Act.

In the U.S. market, the respondent sells to utility customers through one channel of distribution. After deducting expenses associated with the selling activities reflected in the price under section 772(d) of the Act (i.e., the expenses of COGEMA Inc.), we examined the remaining selling expenses which were associated with such activities as strategic planning and marketing, customer sales contact, production planning and evaluation, contract administration, pricing, and quality assurance. These expenses were provided through one U.S. channel of distribution. Therefore, we found all U.S. sales to be made at a single LOT.

Because Eurodif/COGEMA had sales to third countries during the POR, we based our LOT analysis on Eurodif/COGEMA's third country sales. For such sales, the evidence on the record indicates that eight of the 13 categories of selling functions Eurodif performs are at the same level of activity, and five are performed at differing levels of activity, compared to sales to the United States.⁴ Accordingly, we find that Eurodif generally performs the same kinds of selling functions and, in most cases, at the same level of intensity in both markets, the United States and third countries. Therefore, we preliminarily determine that Eurodif/COGEMA's sales to the United States and to third countries are made at the same LOT. Accordingly, we have made no LOT adjustment or CEP offset in our margin calculation program for these preliminary results. For a more detailed discussion, see Prelim Analysis Memo.

⁴ See Eurodif/COGEMA's Section A questionnaire response dated May 18, 2004, at page A-20 to A-25 and Exhibit A-4.

Currency Conversion

We made currency conversions pursuant to section 351.415 of the Department's regulations based on rates certified by the Federal Reserve Bank.

Preliminary Results of Review

We preliminarily determine that the following dumping margin exists:

Manufacturer/exporter | Margin (percent)
Eurodif/COGEMA | 21.71

Public Comment

Pursuant to section 351.224(b) of the Department's regulations, the Department will disclose to parties to the proceeding any calculations performed in connection with these preliminary results within five days after the date of publication of this notice. Pursuant to section 351.309 of the Department's regulations, interested parties may submit written comments in response to these preliminary results. Unless extended by the Department, case briefs are to be submitted within 30 days after the date of publication of this notice, and rebuttal briefs, limited to arguments raised in case briefs, are to be submitted no later than five days after the time limit for filing case briefs. Parties who submit arguments in this proceeding are requested to submit with the argument: (1) A statement of the issues, and (2) a brief summary of the argument. Case and rebuttal briefs must be served on interested parties in accordance with section 351.303(f) of the Department's regulations.

Also, pursuant to section 351.310 (c) of the Department's regulations, within 30 days of the date of publication of this notice, interested parties may request a public hearing on arguments to be raised in the case and rebuttal briefs. Unless the Secretary specifies otherwise, the hearing, if requested, will be held two days after the date for submission of rebuttal briefs. Parties will be notified of the time and location.

The Department will publish the final results of this administrative review, including the results of its analysis of issues raised in any case or rebuttal brief, no later than 120 days after publication of these preliminary results, unless extended. See section 351.213(h) of the Department's regulations.

Duty Assessment

The Department shall determine, and CBP shall assess, antidumping duties on all appropriate entries. Pursuant to section 351.212(b) of the Department's regulations, the Department calculates an assessment rate for each importer of the subject merchandise for each respondent. The Department will issue appropriate assessment instructions directly to CBP within 15 days of publication of the final results of review.

Cash Deposit Requirements

The following cash deposit rates will be effective with respect to all shipments of LEU from France entered, or withdrawn from warehouse, for consumption on or after the publication date of the final results, as provided for by section 751(a)(1) of the Act: (1) For Eurodif/COGEMA, the cash deposit rate will be the rate established in the final results of this review; (2) for previously reviewed or investigated companies not listed above, the cash deposit rate will be the company-specific rate established for the most recent period; (3) if the exporter is not a firm covered in this review, a prior review, or the LTFV investigation, but the manufacturer is, the cash deposit rate will be the rate established for the most recent period for the manufacturer of the subject merchandise; and (4) if neither the exporter nor the manufacturer is a firm covered by this review, a prior review, or the LTFV investigation, the cash deposit rate shall be the all other rate established in the LTFV investigation, which is 19.95 percent. See Notice of Amended Final Determination of Sales at Less Than Fair Value and Antidumping Duty Order: Low Enriched Uranium fro France, 67 FR 6680 (February 13, 2002). These deposit rates, when imposed, shall remain in effect until publication of the final results of the next administrative review.

Notification to Importers

This notice serves as a preliminary reminder to importers of their responsibility under section 351.402(f) of the Department's regulations to file a certificate regarding the reimbursement of antidumping duties prior to liquidation of the relevant entries during this review period. Failure to comply with this requirement could result in the Secretary's presumption that reimbursement of antidumping duties occurred and the subsequent assessment of double antidumping duties.

This administrative review and notice are issued and published in accordance with sections 751(a)(1) and 777(i)(1) of the Act.

Dated: February 28, 2005.
Joseph A. Spetrini,
Acting Assistant Secretary for Import Administration.

[FR Doc. E5-920 Filed 3-4-05; 8:45 am]

BILLING CODE 3510-DS-P